FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than January 3, 2005.

A. Federal Reserve Bank of St. Louis (Randall C. Sumner, Vice President) 411 Locust Street, St. Louis, Missouri 63166-2034:

1. Martin B. Rowe, Harrisburg, Illinois, individually and as a member of the Rowe Family Control Group, which consists of Martin B. Rowe, the Burt H. Rowe, Jr. Marital Trust and the Anne Rowe Family Trust, all of Harrisburg, Illinois; Marianna R. Deal, Rachelle L. Rowe, and Caroline C. Rowe, all of St. Louis, Missouri; and Anne Rowe, Destin, Florida; to acquire control of First Eldorado Bancshares, Inc., Eldorado, Illinois, and thereby indirectly acquire control of Dana Bancorp, Inc., Dana, Indiana, The First National Bank of Dana, Dana Indiana, and First State Bank of Eldorado, Eldorado, Illinois.

Board of Governors of the Federal Reserve System, December 13, 2004.
Robert deV. Frierson,
Deputy Secretary of the Board.

[FR Doc. 04-27578 Filed 12-15-04; 8:45 am]

BILLING CODE 6210-01-S